DEPARTMENT OF HEALTH AND HUMAN SERVICES

National Institutes of Health

Eunice Kennedy Shriver National Institute of Child Health & Human Development; Notice of Meeting

Pursuant to section 10(a) of the Federal Advisory Committee Act, as amended (5 U.S.C. Appendix 2), notice is hereby given of a meeting of the National Children's Study Advisory Committee.

The meeting will be open to the public, with attendance limited to space available. Individuals who plan to attend and need special assistance, such as sign language interpretation or other reasonable accommodations, should notify the Contact Person listed below in advance of the meeting.

Name of Committee: National Children's Study Advisory Committee.

Date: November 5-6, 2008.

Time: November 5, 2008, 8:30 a.m. to 5 p.m.

Agenda: The agenda will include an update on the current status of the Study, including lessons learned, plans for implementation, and other topics of interest.

Place: Gaithersburg Marriott Washingtonian Center, 9751 Washingtonian Boulevard, Gaithersburg, MD 20878.

Time: November 6, 2008, 9 a.m. to 4 p.m.

Agenda: This meeting is open to the public; however, registration is required since space is limited. Please visit the conference Web site for information on meeting logistics and to register for the meeting http://www.circlesolutions.com/ncs/ncsaclindex.cfm. For additional information about the NCSAC meeting please contact Circle Solutions at ncs@circlesolutions.com.

Place: Gaithersburg Marriott Washingtonian Center, 9751 Washingtonian Boulevard, Gaithersburg, MD 20878.

Contact Person: Jessica Sapienza, Adjunct Study Program Analyst, National Children's Study, Eunice Kennedy Shriver National Institute of Child Health and Human Development, NIH, 6100 Executive Blvd., Room 3a01, Bethesda, MD 20892, (703) 902-1339, ncs@circlesolutions.com.

Any interested person may file written comments with the committee by forwarding the statement to the Contact Person listed on this notice. The statement should include the name, address, telephone number and when applicable, the business or professional affiliation of the interested person.

(Catalogue of Federal Domestic Assistance Program Nos. 93.864, Population Research; 93.865, Research for Mothers and Children; 93.929, Center for Medical Rehabilitation Research; 93.209, Contraception and Infertility Loan Repayment Program, National Institutes of Health, HHS)

Dated: October 6, 2009.
Jennifer Spaeth,
Director, Office of Federal Advisory Committee Policy.

[FR Doc. E8-24218 Filed 10-15-08; 8:45 am]

BILLING CODE 4140-01-M